NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 26, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-014

1. Applicant: Nicole Abbot, Vice-President, Wilderness Travel, 1102 Ninth St., Berkley, CA 94710

Activity for Which Permit is Requested: Waste management. The applicant seeks an Antarctic Conservation Act permit for waste management activities associated with the use of unmanned aerial systems (UASs) in Antarctica. The applicant proposes using quadcopter UAS for commercial filmmaking purposes in areas surrounding South Georgia Island and the Antarctic Peninsula. UAS are only to be flown by pilots with extensive experience in the proposed regions. The applicant includes various mitigation measures to limit potential impacts to the environment. These measures include the following: Safety measures that minimize the risk of equipment failure, using observers to maintain visual line of sight with the aircraft and to aid in possible retrieval, not flying above any concentrations of wildlife and disinfecting UAVs after flight to prevent possible contamination between operation sites. The applicant seeks a waste permit to cover any accidental release that may result from UAS use.

Location: Antarctic Peninsula Region.

Dates of Permitted Activities: November 23, 2021-December 12, 2021.

Permit Application: 2022-019

2. Applicant: Walter Barinaga, Crystal Destination Experiences, 1501 Biscayne Blvd. #501, Miami FL, 33132

Activity for Which Permit is Requested: Waste management. The applicant seeks an Antarctic Conservation Act permit for waste management activities associated with the use of Unmanned Aerial Systems (UAS) activities in the Antarctic. UAS will be flown by experienced, approved pilots for educational, marketing, and commercial purposes only. Flights will be conducted in fair weather conditions with wind speeds under 25 knots. UAS will not be flown over any concentrations of wildlife or Antarctic Specially Protected Areas or Historical Sites and Monuments. Observers will be present during all flights and will always maintain a visual line of sight with the aircraft. The applicant seeks a waste permit to cover any accidental release that may occur as the result of UAS activities.

Location: Antarctic Peninsula Region.

Dates of Permitted Activities: December 1, 2021-March 31, 2022.

Permit Application: 2022-020

3. Applicant: David Rootes, Antarctic Logistics & Expeditions, 4741 S Commerce Dr., Salt Lake City, UT 84107

Activity for Which Permit is Requested: Waste Management. Antarctic Logistics & Expeditions, LLC (ALE) seeks an Antarctic Conservation permit for waste management activities associated with logistics and tourism activities to be conducted in Antarctica. The applicant plans to operate a remote camp at Union Glacier, Antarctica, and provide logistical support services for scientific and other expeditions, film crews, and tourists. These activities include aircraft support, cache positioning, camp and field support, resupply, search and rescue, medevac, medical support, and logistic support for some National Operators. Operations will be centered around a main camp located on Union Glacier that is adjacent to a blue-ice runway. The blue-ice runway is a natural feature that requires limited amount of preparation and upkeep for aircraft use. There are standard programs offered on a regular basis including: Climbing trips to Vinson Massif, the Ellsworth Mountains, and the Transantarctic Mountains; ski trips to the Ellsworth Mountains and the Geographic South Pole; ice marathons and sky diving at Union Glacier; and flights to the Geographic South Pole and the emperor penguin colony at Gould Bay. Several aircraft will be operated by ALE throughout the Antarctic and may consist of the following: Ilyushin IL-76TD90, Boeing 767-300ER, Douglas DC3-TP67, Gulfstream G550, Dassault Falcon 7X, Dassault Falcon 900EX, and De Havilland DHC-6 Twin Otter. ALE plans to allow clients to fly Unmanned Aerial Vehicles (UAV) provided their plan meets certain requirements, including ALE's standard operating procedures, IATTO UAV policy, and civil aviation authority regulations (ICAO, FAA, CAA).

Location: Activities are centered around union glacier and in the general area surrounding the Patriot Hills and Ellsworth Mountains. Amundsen-Scott South Pole Station and Gould Bay. General routes from Hercules Cove to South Pole, Berkner Island to South Pole, and Ross Ice Shelf to South Pole.

Dates of Permitted Activities: November 30, 2021-February 2, 2026.

Erika N. Davis,
Program Specialist, Office of Polar Programs.

[FR Doc. 2021-23364 Filed 10-26-21; 8:45 am]

BILLING CODE 7555-01-P